ENVIRONMENTAL PROTECTION AGENCY

[FRL-6927-3]

Access to Confidential Business Information by Riojas Enterprises, Inc.

AGENCY: Environmental Protection Agency.

ACTION: Notice.

SUMMARY: EPA has authorized its contractor, Riojas Enterprises, Inc., of Kansas City, Kansas, who is the prime contractor, for access to information which has been submitted to EPA under the environmental statutes administered by the Agency. Some of this information may be claimed or determined to be Confidential Business Information (CBI).

DATES: Comments must be received on or before January 18, 2001.

ADDRESSES: Questions about this notice should be addressed to: Barry Thierer, Environmental Protection Agency, Office of Policy and Management, Information Resources Management Branch, (IRMB) 901 N. 5th Street, Kansas City, Kansas 66101. Telephone (913/551-7515; thierer,barry@epa.gov),

FOR FURTHER INFORMATION CONTACT: Barry Thierer, (913) 551-7515.

SUPPLEMENTARY INFORMATION: Under the Contract Number 68-R7-01-01, Riojas provides agency-wide information management support services to the Environmental Protection Agency for the operation of dockets, records management support programs, records center, and file rooms, in Regional and Laboratory offices. In performing these tasks, Riojas employees have access to Agency documents for purposes of document processing, filing, abstracting, analyzing, inventorying, retrieving, tracking, filming, scanning, etc. The documents to which Riojas have access potentially include all documents submitted under the Resource Conservation and Recovery Act, Clean Air Act, Clean Water Act, and Comprehensive Environmental Response, Compensation, and Liability Act. Some of these documents may contain information claimed as CBI.

Pursuant to EPA regulations at 40 CFR part 2, subpart B, EPA has determined that Riojas require access to CBI to perform the work required under the contract. These regulations provide for five days notice before contractors are given CBI.

Riojas is required by contract to protect confidential information. Clearance for access to CBI will continue until November 15, 2003.

Riojas personnel will be required to sign nondisclosure agreements and will be briefed on appropriate security procedures before they are permitted access to CBI.

List of Subjects

Environmental Protection, Access to Confidential Business Information.

Jody Hudson,
Associate Assistant Regional Administrator for Information Management, Office of Policy and Management.

[FR Doc. 01-116 Filed 1-2-01; 8:45 am]

BILLING CODE 6560-50-P